DEPARTMENT OF AGRICULTURE

Animal and Plant Health Inspection Service

7 CFR Part 301

[Docket No. APHIS-2008-0004]

Mediterranean Fruit Fly; Add Portion of Los Angeles County, CA, to the List of Quarantined Areas

AGENCY: Animal and Plant Health Inspection Service, USDA.

ACTION: Interim rule and request for comments.

SUMMARY: We are amending the Mediterranean fruit fly regulations by adding a portion of Los Angeles County, CA, to the list of quarantined areas and by restricting the interstate movement of regulated articles from that area. This action is necessary to prevent the artificial spread of Mediterranean fruit fly.

DATES: This interim rule is effective on February 20, 2008. We will consider all comments that we receive on or before April 21, 2008.

ADDRESSES: You may submit comments by either of the following methods:

• Federal eRulemaking Portal: Go to http://www.regulations.gov/fdmspublic/component/main?main=DocketDetail&d=APHIS-2008-0004 to submit or view comments and to view supporting and related materials available electronically.

• Postal Mail/Commercial Delivery: Please send two copies of your comment to Docket No. APHIS-2008-0004, Regulatory Analysis and Development, PPD, APHIS, Station 3A-03.8, 4700 River Road Unit 118, Riverdale, MD 20737-1238. Please state that your comment refers to Docket No. APHIS-2008-0004.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Wayne D. Burnett, Domestic Coordinator, Fruit Fly Exclusion and Detection Programs, PPQ, APHIS, 4700 River Road Unit 137, Riverdale, MD 20737-1234; (301) 734-4387.

SUPPLEMENTARY INFORMATION:

Background

The Mediterranean fruit fly (Medfly, Ceratitis capitata [Wiedemann]) is one of the world's most destructive pests of numerous fruits and vegetables. The short life cycle of the Medfly allows rapid development of serious outbreaks, which can cause severe economic losses. Heavy infestations can cause complete loss of crops.

The Mediterranean fruit fly regulations, contained in 7 CFR 301.78 through 301.78-10 (referred to below as the regulations), were established to prevent the spread of Medfly into noninfested areas of the United States. In § 301.78-3, paragraph (a) provides that the Administrator will list as a quarantined area each State, or each portion of a State, in which Medfly has been found by an inspector, in which the Administrator has reason to believe that Medfly is present, or that the Administrator considers necessary to regulate because of its inseparability for quarantine enforcement purposes from localities in which Medfly has been found. The regulations impose restrictions on the interstate movement of regulated articles from the quarantined areas. Quarantined areas are listed in § 301.78-3(c).

Less than an entire State will be designated as a quarantined area only if the Administrator determines that: (1) The State has adopted and is enforcing restrictions on the intrastate movement of the regulated articles that are equivalent to those imposed on the interstate movement of regulated articles and (2) the designation of less than the entire State as a quarantined area will prevent the interstate spread of Medfly.

Recent trapping surveys by inspectors of California State and county agencies have revealed that a portion of Los Angeles County, CA, is infested with Medfly.

State agencies in California have begun an intensive Medfly eradication program in the quarantined area in Los Angeles County. Also, California has taken action to restrict the intrastate movement of regulated articles from the quarantined area.

Accordingly, in order to prevent the spread of Medfly into noninfested areas of the United States, we are amending the regulations in § 301.78-3(c) by designating a portion of Los Angeles County, CA, as a quarantined area. The quarantined area is described in the regulatory text at the end of this document.

Emergency Action

This rulemaking is necessary on an emergency basis to prevent Medfly from spreading to noninfested areas of the United States. Under these circumstances, the Administrator has determined that prior notice and opportunity for public comment are contrary to the public interest and that there is good cause under 5 U.S.C. 553 for making this rule effective less than 30 days after publication in the Federal Register.

We will consider comments that we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

This rule amends the Medfly regulations by adding a portion of Los Angeles County, CA, to the list of quarantined areas. The regulations restrict the interstate movement of regulated articles from the quarantined area. Within the quarantined area there are approximately 426 small entities that may be affected by this rule. These include 2 food distributors, 129 farmers' markets (including both fruit and plant sellers), 141 fruit sellers, 4 growers, 47 nurseries, 2 recyclers/land fillers, 14 swap meets (including both fruit sellers and plant sellers), 39 loaders (including fruit packers, trucking companies, and shipping services), and 48 yard maintenance firms. These 426 small entities comprise less than 1 percent of the total number of similar entities operating in the State of California. Additionally, few of these small entities move regulated articles interstate during the normal course of their business, nor do consumers of products purchased from those entities generally move those products interstate. The effect on those few entities that do move regulated articles interstate will be minimized by the availability of various treatments that, in most cases, will allow these small entities to move regulated articles interstate with very little additional cost.

Under these circumstances, the Administrator of the Animal and Plant Health Inspection Service has determined that this action will not have a significant impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, 7 CFR part 301 is amended as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. In § 301.78-3, paragraph (c) is amended by adding, in alphabetical order under the heading “California,” an entry for Los Angeles County to read as follows:

§ 301.78-3 Quarantined areas.

* * * * *

(c) * * *

CALIFORNIA

Los Angeles County. That portion of Los Angeles County in the Palos Verdes Peninsula area bounded by a line as follows: Beginning at the intersection of State Highway 1 and Torrance Boulevard; then east, southeast, northeast, southeast, east, southeast, and east on Torrance Boulevard to Cabrillo Avenue; then southeast and south on Cabrillo Avenue to West Carson Street; then east on West Carson Street to South Vermont Avenue; then south on South Vermont Avenue to West 223rd Street; then east on West 223rd Street to Main Street; then south on Main Street to East Sepulveda Boulevard; then east on East Sepulveda Boulevard to Avalon Boulevard; then south on Avalon Boulevard to West Harry Bridges Boulevard; then southwest on West Harry Bridges Boulevard to John S. Gibson Boulevard; then southwest and south on John S. Gibson Boulevard to North Pacific Avenue; then south and southeast on North Pacific Avenue to North Front Street; then northeast and southeast on North Front Street to North Harbor Boulevard; then southeast on North Harbor Boulevard to South Harbor Boulevard; then south on South Harbor Boulevard to Miner Street; then southeast on Miner Street to East 22nd Street; then southwest on East 22nd Street to West 22nd Street; then southwest and west on West 22nd Street to South Pacific Avenue; then south on South Pacific Avenue to its intersection with the northern boundary of Point Fermin Park; then northeast and southeast along the boundary line of Point Fermin Park to its intersection with the California coastline; then southwest, north, northwest, west, southwest, northwest, southwest, northwest, southwest, northwest, west, northwest, southwest, northwest, southwest, south, west, north, northwest, southwest, northwest, northeast, north, northwest, southwest, northwest, southwest, north, northwest, southwest, northeast, northwest, north, northwest, northeast, northwest, north, northwest, northeast, northwest, west, northwest, northeast, northwest, west, northwest, northeast, northwest, southwest, northwest, northeast, north, northeast, north, northwest, north, northwest, southwest, north, northeast, and north along the California coastline to its intersection with the southern boundary line of Redondo Beach State Park; then northeast, north, west, north, northwest, and north along the boundary line of Redondo Beach State Park to its intersection with the boundary line of Veterans Park; then east, northeast, and north along the boundary line of Veterans Park to its intersection with Torrance Boulevard; then east on Torrance Boulevard to the point of beginning.

* * * * *

Done in Washington, DC, this 13th day of February 2008.
Kevin Shea,
Acting Administrator, Animal and Plant Health Inspection Service.

[FR Doc. E8-3106 Filed 2-19-08; 8:45 am]

BILLING CODE 3410-34-P